DEPARTMENT OF THE INTERIOR

Bureau of Ocean Energy Management

[OMB Control Number 1010-0082; Docket ID: BOEM-2017-0016]

Agency Information Collection Activities; Leasing of Minerals Other Than Oil, Gas, and Sulfur in the Outer Continental Shelf

AGENCY: Bureau of Ocean Energy Management, Interior.

ACTION: Notice of information collection; request for comment.

SUMMARY: In accordance with the Paperwork Reduction Act of 1995, the Bureau of Ocean Energy Management (BOEM) is proposing to renew an information collection request (ICR).

DATES: Interested persons are invited to submit comments on or before April 22, 2021.

ADDRESSES: Written comments and recommendations for the proposed information collection should be sent to the Office of Management and Budget's Desk Officer for the Department of the Interior within 30 days of publication of this notice at www.reginfo.gov/public/do/PRAMain. Find this information collection by selecting “Currently under Review—Open for Public Comments” or by using the search function. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-0082 in the subject line of your comments.

FOR FURTHER INFORMATION CONTACT: To request additional information about this ICR, contact Anna Atkinson by email at anna.atkinson@boem.gov or by telephone at 703-787-1025. You may view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

Title of Collection: 30 CFR part 581, Leasing of Minerals Other than Oil, Gas, and Sulphur in the Outer Continental Shelf.

Abstract: The Outer Continental Shelf Lands Act (Act), as amended (43 U.S.C. 1334 and 43 U.S.C. 1337(k)), authorizes the Secretary of the Interior (Secretary) to administer leasing of the Outer Continental Shelf (OCS) and to prescribe such rules and regulations as may be necessary to carry out such authority. Additionally, the Act authorizes the Secretary to grant qualified persons, offering the highest cash bonuses on the basis of competitive bidding, leases in any area of the OCS for any mineral other than oil, gas, and sulfur upon such royalty, rental, and other terms and conditions as the Secretary may prescribe when offering the lease. This leasing applies to any area of the OCS not then under lease for such mineral resources. BOEM's regulations at 30 CFR part 581 implement the Act's requirements.

There has been no leasing activity in the OCS for minerals other than oil, gas, or sulfur under these regulations for many years, so BOEM has not generally collected information under this part of its regulations. However, because 30 CFR part 581 contains information collections that are regulatory requirements and because there is no restriction on leasing for such minerals, the potential exists for information to be collected. Therefore, BOEM is requesting that OMB renew its previous approval for this information collection.

BOEM will use the information required by 30 CFR part 581 to determine if statutory requirements are met prior to the issuance of a lease. Specifically, BOEM will use the information to:

• Evaluate the area and minerals for which a lease is being considered to assess the viability of offering leases for sale;

• Request the adjacent State(s) to initiate the establishment of a joint task force to assess the proposed action;

• Ensure excessive overriding royalty interests are not created in a lease that would put economic constraints on all parties involved;

• Document that a lease or any part thereof has been surrendered by the record title holder; and

• Determine if activities on the proposed lease area(s) will have a significant impact on the environment.

OMB Control Number: 1010-0082.

Form Number: None.

Type of Review: Renewal of a currently approved collection.

Respondents/Affected Public: As there are no active respondents, BOEM estimates the potential annual number of respondents to be one. Potential respondents include OCS lease requestors, State governments, and OCS lessees.

Total Estimated Number of Annual Responses: 10 responses.

Total Estimated Number of Annual Burden Hours: 984 hours.

Respondent's Obligation: Required to retain or obtain a benefit.

Frequency of Collection: On occasion.

Total Estimated Annual Non-hour Burden Cost: $29 non-hour cost burden. BOEM is decreasing the total non-hour cost burden from $50 to $29 to reflect the current filing application fee amount.

Estimated Reporting and Recordkeeping Hour Burden: BOEM estimates that the annual reporting burden for this collection is 984 hours, which would be the same as the currently OMB-approved burden hours.

A Federal Register notice with a 60-day public comment period soliciting comments on this proposed information collection request was published on November 19, 2020 (85 FR 73746). BOEM received one non-substantive comment from a private citizen during the 60-day comment period. As the comment was unrelated to the ICR, no changes were made based on this commenter's feedback.

BOEM is again soliciting comments on the proposed ICR that is described above.

BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to OMB for approval of this ICR. You should be aware that your entire comment—including your address, phone number, email address, or other personally identifying information—may be made publicly disclosed. In order to inform BOEM's decision on whether it can withhold from disclosure your personally identifiable information, you must identify any information contained in your comments that, if released, would clearly constitute an unwarranted invasion of your privacy, and briefly describe possible harmful consequences of disclosing that information, such as embarrassment, injury, or other harm. While you can ask BOEM in your comment to withhold your personally identifiable information from public disclosure, BOEM cannot guarantee that it will be able to do so.

BOEM protects proprietary information in accordance with the Freedom of Information Act (FOIA, 5 U.S.C. 552), and the Department of the Interior's FOIA implementing regulations (43 CFR part 2).

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2021-05906 Filed 3-22-21; 8:45 am]

BILLING CODE 4310-MR-P